DEPARTMENT OF COMMERCE

International Trade Administration

[A-821-831]

Investigation of Urea Ammonium Nitrate Solutions From the Russian Federation: Notice of Extension of Due Date for the Submission of Comments on the Russian Federation's Status as a Market Economy Country Under the Antidumping Duty Laws

AGENCY: Enforcement and Compliance, International Trade Administration, Department of Commerce.

SUMMARY: The Department of Commerce (Commerce) granted an eight-day extension of the deadline to submit comments on Russia's status as a market economy (ME) country. Accordingly, the deadline to submit such comments, for all interested parties, is now no later than the close of business (i.e., 5 p.m. Eastern Time) on September 7, 2021.

DATES: Applicable August 26, 2021.

FOR FURTHER INFORMATION CONTACT: Leah Wils-Owens, Office of Policy, Enforcement and Compliance, International Trade Administration, U.S. Department of Commerce, 1401 Constitution Avenue NW, Washington, DC 20230; telephone: (202) 482-4203.

SUPPLEMENTARY INFORMATION: On July 30, 2021, Commerce published Opportunity to Comment on Russian Federation's Status as a Market Economy Country Under the Antidumping Duty Laws, 86 FR 41008 (July 30, 2021). In that notice, Commerce announced that it is seeking public comment and information with respect to the whether to continue to treat Russia as a ME country for purposes of the antidumping duty law, and invited the public to submit comments by August 30, 2021, on such inquiry. We have received a request to extend the comment period.

In response to the request for additional time to comment, we have extended the due date for the submission of comments.¹ The revised due date for comments is September 7, 2021. Interested parties may submit comments and information at the Federal eRulemaking Portal: www.Regulations.gov. The identification number is ITA-2021-0003. To be assured of consideration, written comments and information must be received no later than September 7, 2021.

¹ See Memorandum, “Urea Ammonium Nitrate Solutions from the Russian Federation: Extension of Time to File Comments on Russia's Status,” dated August 23, 2021.

Dated: August 24, 2021.
Ryan Majerus,
Deputy Assistant Secretary for Policy and Negotiations.

[FR Doc. 2021-18487 Filed 8-25-21; 8:45 am]

BILLING CODE 3510-DS-P